NATIONAL AERONAUTICS AND SPACE ADMINISTRATION

[Notice (02-012)]

NASA Advisory Council, Biological and Physical Research Advisory Committee, Space Station Utilization Advisory Subcommittee; Meeting

AGENCY: National Aeronautics and Space Administration.

ACTION: Notice of meeting.

SUMMARY: In accordance with the Federal Advisory Committee Act, Pub. L. 92-463, as amended, the National Aeronautics and Space Administration announces a meeting of the NASA Advisory Council, Biological and Physical Research Advisory Committee, Space Station Utilization Advisory Subcommittee.

DATES: Tuesday, February 12, 2002, 8 a.m. to 5 p.m., and Wednesday, February 13, 2002, 8 a.m to 5 p.m.

ADDRESSES: Center for Advanced Space Studies, 3600 Bay Area Boulevard, Houston, Texas.

FOR FURTHER INFORMATION CONTACT: Mr. Mark Uhran, Code UM, National Aeronautics and Space Administration, Washington, DC 20546,(202) 358-2233.

SUPPLEMENTARY INFORMATION: The meeting will be open to the public up to the seating capacity of the room. Advance notice of attendance to the Executive Secretary is requested. The agenda for the meeting will include the following topics:

—Research Operations

—Executive Presentations

—Special Topics

—Response to Prior Recommendations

—Response to Prior Actions

—Task Force on Research Priorities

It is imperative that the meeting be held on this date to accommodate the scheduling priorities of the key participants. Visitors will be requested to sign a visitor's register.

Sylvia K. Kraemer,
Advisory Committee Management Officer, National Aeronautics and Space Administration.

[FR Doc. 02-2192 Filed 1-29-02; 8:45 am]

BILLING CODE 7510-01-P